DEPARTMENT OF THE INTERIOR

National Park Service

[NPS-WASO-NAGPRA-NPS0032940; PPWOCRADN0-PCU00RP14.R50000]

Notice of Intent To Repatriate Cultural Items: McClure Archives and University Museum, University of Central Missouri, Warrensburg, MO

AGENCY: National Park Service, Interior.

ACTION: Notice.

SUMMARY: The McClure Archives and University Museum, University of Central Missouri, in consultation with the appropriate Indian Tribes or Native Hawaiian organizations, has determined that the cultural item listed in this notice meets the definition of object of cultural patrimony. Lineal descendants or representatives of any Indian Tribe or Native Hawaiian organization not identified in this notice that wish to claim this cultural item should submit a written request to the McClure Archives and University Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the McClure Archives and University Museum at the address in this notice by December 6, 2021.

FOR FURTHER INFORMATION CONTACT: Olivia Thomsen, NAGPRA Preparator, McClure Archives and University Museum of JCKL 1470, 601 Missouri Street, Warrensburg, MO 64093, telephone (660) 543-4649, email thomsen@ucmo.edu.

SUPPLEMENTARY INFORMATION: Notice is here given in accordance with the Native American Graves Protection and Repatriation Act (NAGPRA), 25 U.S.C. 3005, of the intent to repatriate cultural items under the control of the McClure Archives and University Museum, University of Central Missouri, Warrensburg, MO, that meet the definition of object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

Sometime in the 20th century, one cultural item was separated from the Tejon Indian Tribe in California. It was collected or bought by Robert Spier while doing fieldwork. Spier died in 2014, and in 2016, his widow, Carolyn Spier, donated the item to the McClure Archives and University Museum, along with many other items in her husband's personal anthropological collection. The one object of cultural patrimony is a woven bag.

The bag was originally documented to come from the Tejon Indian Tribe. Through consultation with the Tejon Indian Tribe, this cultural affiliation was confirmed.

Determinations Made by the McClure Archives and University Museum, University of Central Missouri

Officials of the McClure Archives and University Museum, University of Central Missouri have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Tejon Indian Tribe.

Additional Requestors and Disposition

Lineal descendants or representatives of any Indian Tribe or Native Hawaiian organization not identified in this notice that wish to claim this cultural item should submit a written request with information in support of the claim to Olivia Thomsen, NAGPRA Preparator, McClure Archives and University Museum of JCKL 1470, 601 Missouri Street, Warrensburg, MO 64093, telephone (660) 543-4649, email thomsen@ucmo.edu, by December 6, 2021. After that date, if no additional claimants have come forward, transfer of control of the object of cultural patrimony to the Tejon Indian Tribe may proceed.

The McClure Archives and University Museum, University of Central Missouri is responsible for notifying the Tejon Indian Tribe that this notice has been published.

Dated: October 21, 2021.
Melanie O'Brien,
Manager, National NAGPRA Program.

[FR Doc. 2021-24050 Filed 11-3-21; 8:45 am]

BILLING CODE 4312-52-P